DEPARTMENT OF LABOR

Employment and Training Administration

Proposed Collection; Comment Request

September 6, 2000.

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. Currently, the Employment and Training Administration is soliciting comments concerning the extension (Pending emergency OMB approval) of the collection of the One-Stop Labor Market Information Grant Plan and Progress Reports. A copy of this ICR, with applicable supporting documentation, may be obtained by contacting the office listed below in the addressee section of this notice.

DATES: Written comments must be submitted to the office listed in the addressee's section below on or before November 13, 2000.

ADDRESSES: Steve Aaronson, U.S. Employment Service, Office of Workforce Security, 200 Constitution Avenue, NW., Room C-4512, Washington, DC 20210; telephone 202-219-9092 x 151 fax 202-208-5844 (these are not toll-free numbers).

SUPPLEMENTARY INFORMATION:

Background

This extension is being requested in order to continue collecting information from States for One-Stop Labor Market Information Grant Plan and Progress Reports. This information will be used by the Department of Labor and its managing State partners to assure that an employment statistics system required by Wagner Peyser as amended by the Workforce Investment Act meets the needs of its customers. States seeking grants are requested to provide an annual grant narrative that provides specific information on how the grant funds will accomplish any of seven priorities developed by the Department through the Workforce Information Council. In addition the States are requested to provide a brief progress report twice during the grant period which explains the progress of the grantee in accomplishing the plan.

II. Review Focus

The Office of Management and Budget is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collection; and

• Minimize the burden of the collection of information on those who are to respond, including through the use of appropriate automated, electronic, mechanical, or other technological collection techniques or other forms of information technology, e.g., permitting electronic submissions of response.

III. Current Actions

Type of Review: Extension (Pending emergency OMB approval).

Agency: Employment and Training Administration.

Title: One-Stop Labor Market Information Grant Reporting.

OMB Number: 1205-ONEW.

Affected Public: States.

Form | Number of respondents | Responses per year | Total responses | Hours per response | Total burden hours
Annual Plan | 54 | 1 | 54 | 36 | 1,944
Progress Reports | 54 | 2 | 108 | 6 | 648
Totals | 54 | 3 | 162 | 42 | 2,592

Total Burden Cost (capital/startup): $0.

Total Burden Cost (operating/maintaining): $0.

Comments submitted in response to this comment request will be summarized and/or included in the request for Office of Management and Budget approval of the information collection request; they will also become a matter of public record.

Dated: September 8, 2000.
Grace Kilbane,
Administrator, Office of Workforce Security.

[FR Doc. 00-23513 Filed 9-12-00; 8:45 am]

BILLING CODE 4510-30-M